DEPARTMENT OF COMMERCE

International Trade Administration

[A-570-601]

Tapered Roller Bearings and Parts Thereof, Finished and Unfinished, From the People's Republic of China: Notice of Correction to the Final Results of the 2013-2014 Antidumping Duty Administrative Review

AGENCY: Enforcement and Compliance, International Trade Administration, Department of Commerce.

ACTION: Notice of Correction.

FOR FURTHER INFORMATION CONTACT: Blaine Wiltse, Enforcement and Compliance, International Trade Administration, U.S. Department of Commerce, 14th Street and Constitution Avenue NW., Washington, DC 20230; telephone: (202) 482-6345.

SUPPLEMENTARY INFORMATION: On January 12, 2016, the Department of Commerce (the Department) published in the Federal Register the final results of the 2013-2014 administrative review of the antidumping duty order on tapered roller bearings and parts thereof, finished and unfinished, from the People's Republic of China.¹ The period of review is June 1, 2013, through May 31, 2014. In the Final Results, the Department incorrectly assigned a weighted-average dumping margin of 0.91 percent to the company “Changshan Peer Bearing Co., Ltd./Shanghai General Bearing Co., Ltd.” ² However, the weighted-average dumping margin should have been assigned, instead, to Changshan Peer Bearing Co., Ltd. alone.³ As a result, we now correct the final results of the 2013-2014 administrative review as noted above.

¹ See Tapered Roller Bearings and Parts Thereof, Finished and Unfinished, from the People's Republic of China: Final Results of the Antidumping Duty Administrative Review; 2013-2014, 81 FR 1396 (January 12, 2016) (Final Results).

² Id., at 1397.

³ Id., at Comment 1 in the accompanying Issues and Decision Memorandum.

This correction to the final results of administrative review is issued and published in accordance with sections 751(a)(1) and 777(i)(1) of the Tariff Act of 1930, as amended.

Dated: January 19, 2016.
Paul Piquado,
Assistant Secretary, for Enforcement and Compliance.

[FR Doc. 2016-01499 Filed 1-25-16; 8:45 am]

BILLING CODE 3510-DS-P